DEPARTMENT OF THE INTERIOR

Office of the Secretary

Notice of Proposed Information Collection

AGENCY: Office of the Secretary, Office of Hearings and Appeals.

ACTION: Notice and request for comments.

SUMMARY: The proposal for the collection of information listed below has been submitted to the Office of Management and Budget (OMB) for approval under the provisions of the Paperwork Reduction Act (44 U.S.C. chapter 35). Copies of the proposed information collection request may be obtained by contacting the Clearance Officer at the phone number listed below. Comments and suggestions on the requirement should be made directly to the Office of Management and Budget. A copy of the comments and suggestions should also be sent to the Clearance Officer.

DATES: OMB has up to 60 days to approve or disapprove the information collection, but may respond after 30 days. Therefore, public comments should be submitted to OMB by June 2, 2006, in order to be assured of consideration.

ADDRESSES: Send your written comments to Office of Management and Budget, Office of Information and Regulatory Affairs, Attention, Department of the Interior Desk Officer, by fax to 202-395-6566, or by e-mail to oira_docket@omb.eop.gov. Send a copy of your written comments to Sue Ellen Sloca, U.S. Department of the Interior, National Business Center, MS 1413 MIB, 1849 C St., NW., Washington, DC 20240, phone 202-208-6045, fax 202-219-2374, or electronically to sue_ellen_sloca@nbc.gov. Please mention that your comments concern “7 CFR Part 1; 43 CFR Part 45; 50 CFR Part 221; the Alternatives Process in Hydropower Licensing,” OMB control #1094-0001.

FOR FURTHER INFORMATION CONTACT: To request a copy of the information collection request (“7 CFR Part 1; 43 CFR Part 45; 50 CFR Part 221; the Alternatives Process in Hydropower Licensing,” OMB control #1094-0001), and explanatory information and related forms, contact Sue Ellen Sloca, U.S. Department of the Interior, National Business Center, MS 1413 MIB, 1849 C St., NW., Washington, DC 20240, phone 202-208-6045, fax 202-219-2374, or by electronic mail to sue_ellen_sloca@nbc.gov.

SUPPLEMENTARY INFORMATION:

I. Abstract

The Office of Management and Budget (OMB) regulations at 5 CFR part 1320, which implement the Paperwork Reduction Act of 1995 (Pub. L. 104-13), require that interested members of the public and affected agencies have an opportunity to comment on information collection and recordkeeping activities (see 5 CFR 1320.8(d)). This notice identifies an information collection activity that the Office of Hearings and Appeals has submitted to OMB for extension or re-approval.

On November 17, 2005, the Departments of Agriculture, Interior, and Commerce published regulations at 7 CFR part 1, 43 CFR part 45, and 50 CFR part 221, to implement section 241 of the Energy Policy Act of 2005 (EPAct), Public Law 109-58, which the President signed into law on August 8, 2005. Section 241 of the EPAct adds a new section 33 to the Federal Power Act (FPA) that allows the license applicant or any other party to the license proceeding to propose an alternative to a condition or prescription that one or more of the Departments develop for inclusion in a hydropower license issued by the Federal Energy Regulatory Commission (FERC) under the FPA. This provision requires that the Departments of Agriculture, Interior and Commerce collect the information covered by 1094-0001.

The Secretary of the Department involved must accept the proposed alternative if the Secretary determines, based on substantial evidence provided by a party to the license proceeding or otherwise available to the Secretary, (a) that the alternative condition provides for the adequate protection and utilization of the reservation, or that the alternative prescription will be no less protective than the fishway initially proposed by the Secretary, and (b) that the alternative will either cost significantly less to implement or result in improved operation of the project works for electricity production.

In order to make this determination, the regulations require that all of the following information be collected: (1) A description of the alternative, in an equivalent level of detail to the bureau's preliminary condition or prescription; (2) an explanation of how the alternative: (i) If a condition, will provide for the adequate protection and utilization of the reservation; or (ii) if a prescription, will be no less protective than the fishway prescribed by the bureau; (3) an explanation of how the alternative, as compared to the preliminary condition or prescription, will: (i) Cost significantly less to implement; or (ii) result in improved operation of the project works for electricity production; (4) an explanation of how the alternative or revised alternative will affect: (i) Energy supply, distribution, cost, and use; (ii) flood control; (iii) navigation; (iv) water supply; (v) air quality; and (vi) other aspects of environmental quality; and (5) specific citations to any scientific studies, literature, and other documented information relied on to support the proposal.

This notice of proposed information collection is being published by the Office of Hearings and Appeals, Department of the Interior, on behalf of all three Departments, and the data provided below covers anticipated responses (alternative conditions/prescriptions and associated information) for all three Departments.

II. Data

(1) Title: 7 CFR Part 1; 43 CFR Part 45; 50 CFR Part 221; the Alternatives Process in Hydropower Licensing.

OMB Control Number: 1094-0001.

Current Expiration Date: May 31, 2006.

Type of Review: Information Collection Renewal.

Affected Entities: Business or for-profit entities.

Estimated annual number of respondents: 30.

Frequency of response: Once per alternative proposed.

(2) Annual reporting and recordkeeping burden:

Total annual reporting per response: 150 hours.

Total number of estimated responses: 250.

Total annual reporting: 37,500 hours.

(3) Description of the need and use of the information: The purpose of this information collection is to provide an opportunity for license parties to propose an alternative condition or prescription to that imposed by the Federal Government in the hydropower licensing process.

III. Request for Comments

The Departments invite comments on:

(a) Whether the collection of information is necessary for the proper performance of the functions of the agencies, including whether the information will have practical utility;

(b) The accuracy of the agencies' estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: April 27, 2006.
Robert S. More,
Director, Office of Hearings and Appeals.

[FR Doc. E6-6630 Filed 5-2-06; 8:45 am]

BILLING CODE 4310-79-P